EXPORT-IMPORT BANK OF THE UNITED STATES

Economic Impact Policy

This notice is to inform the public that the Export-Import Bank of the United States has received an application to finance the export of $113 million worth of U.S. goods and services to a buyer in India. The equipment will enable the Indian buyer to produce 553,000 metric tons of Pure Terephthalic Acid (PTA) annually. According to the foreign buyer, the additional capacity of PTA is likely to be entirely consumed in the Indian market. However, depending on market conditions in India, some of the production could be exported to China, the leading market for the Indian buyer's other products. Interested parties may submit comments on this transaction by e-mail to economic.impact@exim.gov or by mail to 811 Vermont Ave., NW., Room 1238, Washington, DC 20571, within 14 days of the date this notice appears in the Federal Register.

Helene S. Walsh,
Director, Policy Oversight and Review.

[FR Doc. 03-4866 Filed 2-28-03; 8:45 am]

BILLING CODE 6690-01-M